DEPARTMENT OF JUSTICE

Drug Enforcement Administration

Manufacturer of Controlled Substances; Notice of Application; Correction

By notice dated February 23, 2005, and published in the Federal Register on March 4, 2005 (70 FR 10683), the listing of controlled substances Oxycodone (9143) and Morphine (9300), were inadvertently omitted, for Siegfried (USA), Inc., Industrial Park Road, Pennsville, New Jersey 08070. The Notice of Application should be corrected to include Oxycodone (9143) and Morphine (9300).

Dated: March 29, 2005.
William J. Walker,
Deputy Assistant Administrator, Office of Diversion Control, Drug Enforcement Administration.

[FR Doc. 05-6791 Filed 4-5-05; 8:45 am]

BILLING CODE 4410-09-P